DEPARTMENT OF HOMELAND SECURITY

Federal Emergency Management Agency

[Docket ID FEMA-2021-0002; Internal Agency Docket No. FEMA-B-2117]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Alabama:
Madison | City of Huntsville (19-04-5211P). | The Honorable Thomas Battle, Jr., Mayor, City of Huntsville, 308 Fountain Circle, 8th Floor, Huntsville, AL 35801. | City Hall, 308 Fountain Circle, 8th Floor, Huntsville, AL 35801. | https://msc.fema.gov/portal/advanceSearch. | May 20, 2021 | 010153
Madison | Unincorporated areas of Madison County (19-04-5211P). | The Honorable Dale W. Strong, Chairman, Madison County Commission, 100 North Side Square, Huntsville, AL 35801. | Engineering Department, 100 Hughes Road, Madison, AL 35758. | https://msc.fema.gov/portal/advanceSearch. | May 20, 2021 | 010151
Arizona:
Mohave | City of Lake Havasu City (20-09-1801P). | The Honorable Cal S. Sheehy, Mayor, City of Lake Havasu City, 2330 McCulloch Boulevard North, Lake Havasu City, AZ 86403. | Development Services Department, 2330 McCulloch Boulevard North, Lake Havasu City, AZ 86403. | https://msc.fema.gov/portal/advanceSearch. | Jun. 3, 2021 | 040116
Mohave | Unincorporated areas of Mohave County (20-09-1801P). | The Honorable Buster Johnson, Chairman, Mohave County Board of Supervisors, 2001 College Drive, Suite 90, Lake Havasu City, AZ 86403. | Mohave County Flood Control District, 3250 East Kino Avenue, Kingman, AZ 86409. | https://msc.fema.gov/portal/advanceSearch. | Jun. 3, 2021 | 040058
Colorado:
El Paso | City of Colorado Springs (20-08-0838P). | The Honorable John Suthers, Mayor, City of Colorado Springs, 30 South Nevada Avenue, Suite 601, Colorado Springs, CO 80903. | Pikes Peak Regional Development Center, 2880 International Circle, Colorado Springs, CO 80910. | https://msc.fema.gov/portal/advanceSearch. | Jun. 17, 2021 | 080060
El Paso | Unincorporated areas of El Paso County (20-08-0750P). | The Honorable Stan VanderWerf, Chairman, El Paso County Board of Commissioners, 200 South Cascade Avenue, Suite 100, Colorado Springs, CO 80903. | Pikes Peak Regional Development Center, 2880 International Circle, Colorado Springs, CO 80910. | https://msc.fema.gov/portal/advanceSearch. | Jun. 14, 2021 | 080059
Weld | Town of Severance (20-08-0596P). | The Honorable Donald McLeod, Mayor, Town of Severance, 3 South Timber Ridge Parkway, Severance, CO 80550. | Town Hall, 3 South Timber Ridge Parkway, Severance, CO 80550. | https://msc.fema.gov/portal/advanceSearch. | Jun. 10, 2021 | 080317
Connecticut: Hartford | Town of Simsbury (20-01-1155P). | Ms. Maria Capriola, Town of Simsbury Manager, 933 Hopmeadow Street, Simsbury, CT 06070. | Town Hall, 933 Hopmeadow Street, Simsbury, CT 06070. | https://msc.fema.gov/portal/advanceSearch. | Jun. 3, 2021 | 090035
Florida:
Collier | City of Naples (20-04-6275P). | The Honorable Teresa L. Heitmann, Mayor, City of Naples, 735 8th Street South, Naples, FL 34102. | Building Department, 295 Riverside Circle, Naples, FL 34102. | https://msc.fema.gov/portal/advanceSearch. | May 13, 2021 | 125130
Miami-Dade | City of Sunny Isles Beach (20-04-5872P). | The Honorable George “Bud” Scholl, Mayor, City of Sunny Isles Beach, 18070 Collins Avenue, Sunny Isles Beach, FL 33160. | Building Department, 18070 Collins Avenue, Sunny Isles Beach, FL 33160. | https://msc.fema.gov/portal/advanceSearch. | Jun. 1, 2021 | 120688
Monroe | Unincorporated areas of Monroe (21-04-0609P). | The Honorable Michelle Coldiron, Mayor, Monroe County Board of Commissioners, 25 Ships Way, Big Pine Key, FL 33042. | Monroe County Building Department, 2798 Overseas Highway, Suite 300, Marathon, FL 33050. | https://msc.fema.gov/portal/advanceSearch. | Jun. 14, 2021 | 125129
Monroe | Village of Islamorada (21-04-0284P). | The Honorable Buddy Pinder, Mayor, Village of Islamorada, 86800 Overseas Highway, Islamorada, FL 33036. | Building Department, 86800 Overseas Highway, Islamorada, FL 33036. | https://msc.fema.gov/portal/advanceSearch. | May 27, 2021 | 120424
Orange | City of Orlando (20-04-5596P). | The Honorable Buddy W. Dyer, Mayor, City of Orlando, P.O. Box 4990, Orlando, FL 32802. | Public Works Department, Engineering Division, 400 South Orange Avenue, 8th Floor, Orlando, FL 32801. | https://msc.fema.gov/portal/advanceSearch. | May 18, 2021 | 120186
Pinellas | City of Clearwater (20-04-6149P). | Mr. William Horne, City of Clearwater Manager, P.O. Box 4748, Clearwater, FL 33756. | Engineering Department, 100 South Myrtle Avenue, Suite 220, Clearwater, FL 33756. | https://msc.fema.gov/portal/advanceSearch. | Jun. 17, 2021 | 125096
Georgia: Columbia | Unincorporated areas of Columbia County (20-04-3795P). | The Honorable Douglas R. Duncan, Jr., Chairman, Columbia County Board of Commissioners, 630 Ronald Reagan Drive, Building B, Evans, GA 30809. | Columbia County Engineering Services Division, 630 Ronald Reagan Drive, Building A, Evans, GA 30809. | https://msc.fema.gov/portal/advanceSearch. | May 26, 2021 | 130059
North Carolina:
Chatham | Unincorporated areas of Chatham County (20-04-3030P). | The Honorable Mike Dasher, Chairman, Board of County Commissioners, Chatham County, 2 East Street, Pittsboro, NC 27312. | Chatham County Planning Department, 80-A East Street, Pittsboro, NC, 27312. | https://msc.fema.gov/portal/advanceSearch. | Apr. 23, 2021 | 370299
Mecklenburg | City of Charlotte (20-04-3344P). | The Honorable Vi Alexander Lyles, Mayor, City of Charlotte, 600 East 4th Street, Charlotte, NC 28202. | Mecklenburg County, Stormwater Services Department, 2145 Suttle Avenue, Charlotte, NC 28202. | https://msc.fema.gov/portal/advanceSearch. | Apr. 7, 2021 | 370159
Pennsylvania:
Montgomery | Township of Upper Dublin (20-03-0912P). | Mr. Ira S. Tackel, President, Township of Upper Dublin Board of Commissioners, 801 Loch Alsh Avenue, Fort Washington, PA 19034. | Community Planning and Zoning Department, 801 Loch Alsh Avenue, Fort Washington, PA 19034. | https://msc.fema.gov/portal/advanceSearch. | May 24, 2021 | 420708
Montgomery | Township of Whitemarsh (20-03-0912P). | Ms. Laura Boyle-Nester, Chair, Township of Whitemarsh Board of Supervisors, 616 Germantown Pike, Lafayette Hill, PA 19444. | Township Hall, 616 Germantown Pike, Lafayette Hill, PA 19444. | https://msc.fema.gov/portal/advanceSearch. | May 24, 2021 | 420712
South Carolina:
Berkeley | Town of Moncks Corner (20-04-4527P). | The Honorable Michael Lockliear, Mayor, Town of Moncks Corner, 118 Carolina Avenue, Moncks Corner, SC 29461. | Town Hall, 118 Carolina Avenue, Moncks Corner, SC 29461. | https://msc.fema.gov/port | Jun. 10, 2021 | 450031
Berkeley | Unincorporated areas of Berkeley County (20-04-4527P). | Mr. John Cribb, Berkeley County Supervisor, 1003 Highway 52, Moncks Corner, SC 29461. | Berkeley County Administration Building, 1003 Highway 52, Moncks Corner, SC 29461. | https://msc.fema.gov/port | Jun. 10, 2021 | 450029
Charleston | Unincorporated areas of Charleston County (21-04-0473P). | The Honorable Teddie E. Pryor, Sr., Chairman, Charleston County Council, 2700 Crestline Drive, North Charleston, SC 29405. | Charleston County Building Inspections Department, 4045 Bridge View Drive, North Charleston, SC 29405. | https://msc.fema.gov/port | Jun. 14, 2021 | 455413
Texas:
Bexar and Guadalupe | City of Selma (20-06-1874P). | The Honorable Tom Daly, Mayor, City of Selma, 9375 Corporate Drive, Selma, TX 78154. | Geographic Information Systems (GIS) Department, 9375 Corporate Drive, Selma, TX 78154. | https://msc.fema.gov/portal/advanceSearch. | May 10, 2021 | 480046
Bexar | Unincorporated areas of Bexar County (20-06-1284P). | The Honorable Nelson W. Wolff, Bexar County Judge, 101 West Nueva Street, 10th Floor, San Antonio, TX 78205. | Bexar County Public Works Department, 1948 Probandt Street, San Antonio, TX 78214. | https://msc.fema.gov/portal/advanceSearch. | May 10, 2021 | 480035
Collin and Denton | City of Celina (20-06-2234P). | The Honorable Sean Terry, Mayor, City of Celina, 142 North Ohio Street, Celina, TX 75009. | City Hall, 142 North Ohio Street, Celina, TX 75009. | https://msc.fema.gov/portal/advanceSearch. | May 17, 2021 | 480133
Collin | City of Princeton (20-06-2556P). | Mr. Derek Borg, City of Princeton Manager, 123 West Princeton Drive, Princeton, TX 75407. | City Hall, 123 West Princeton Drive, Princeton, TX 75407. | https://msc.fema.gov/portal/advanceSearch. | Apr. 30, 2021 | 480757
Collin | City of Sachse (20-06-2901P). | Ms. Gina Nash, City of Sachse Manager, 3815 Sachse Road, Building B, Sachse, TX 75048. | Engineering Department, 3815 Sachse Road, Building B, Sachse, TX 75048. | https://msc.fema.gov/portal/advanceSearch. | Jun. 4, 2021 | 480186
Collin | City of Wylie (20-06-2901P). | The Honorable Matthew Porter, Mayor, City of Wylie, 300 Country Club Road, Building 100, Wylie, TX 75098. | Engineering Department, 300 Country Club Road, Building 100, Wylie, TX 75098. | https://msc.fema.gov/portal/advanceSearch. | Jun. 4, 2021 | 480759
Collin and Denton | Town of Prosper (20-06-1821P). | The Honorable Ray Smith, Mayor, Town of Prosper, P.O. Box 307, Prosper, TX 75078. | Engineering Services Department, 250 West 1st Street, Prosper, TX 75078. | https://msc.fema.gov/portal/advanceSearch. | May 24, 2021 | 480141
Collin | Town of Prosper (20-06-2234P). | The Honorable Ray Smith, Mayor, Town of Prosper, P.O. Box 307, Prosper, TX 75078. | Engineering Services Department, 250 West 1st Street, Prosper, TX 75078. | https://msc.fema.gov/portal/advanceSearch. | May 17, 2021 | 480141
Comal | Unincorporated areas of Comal County (20-06-1966P). | The Honorable Sherman Krause, Comal County Judge, 100 Main Plaza, New Braunfels, TX 78130. | Comal County Engineering Department, 195 David Jonas Drive, New Braunfels, TX 78132. | https://msc.fema.gov/portal/advanceSearch. | May 20, 2021 | 485463
Denton | Unincorporated areas of Denton County (20-06-1821P). | The Honorable Andy Eads, Denton County Judge, 110 West Hickory Street, 2nd Floor, Denton, TX 76201. | Denton County Development Services Department, 3900 Morse Street, Denton, TX 76208. | https://msc.fema.gov/portal/advanceSearch. | May 24, 2021 | 480774
Denton | Unincorporated areas of Denton County (20-06-2234P). | The Honorable Andy Eads, Denton County Judge, 110 West Hickory Street, 2nd Floor, Denton, TX 76201. | Denton County Development Services Department, 3900 Morse Street, Denton, TX 76208. | https://msc.fema.gov/portal/advanceSearch. | May 17, 2021 | 480774
Lubbock | City of Lubbock (20-06-2140P). | The Honorable Dan Pope, Mayor, City of Lubbock, P.O. Box 2000, Lubbock, TX 79457. | Engineering Department, 1314 Avenue K, 7th Floor, Lubbock, TX 79401. | https://msc.fema.gov/portal/advanceSearch. | Jun. 10, 2021 | 480452
Lubbock | Unincorporated areas of Lubbock County (20-06-2140P). | The Honorable Curtis Parrish, Lubbock County Judge, 904 Broadway Street, Suite 101, Lubbock, TX 79401. | Lubbock County Public Works Department, 904 Broadway Street, Lubbock, TX 79401. | https://msc.fema.gov/portal/advanceSearch. | Jun. 10, 2021 | 480915
Virginia: Loudoun | Unincorporated areas of Loudoun County (20-03-1253P). | Mr. Tim Hemstreet, Loudoun County Administrator, P.O. Box 7000, Leesburg, VA 20177. | Loudoun County Mapping and Geographic Information (GIS) Department, 1 Harrison Street Southeast, Leesburg, VA 20177. | https://msc.fema.gov/portal/advanceSearch. | Jun. 14, 2021 | 510090

[FR Doc. 2021-04979 Filed 3-9-21; 8:45 am]

BILLING CODE 9110-12-P